DEPARTMENT OF HOMELAND SECURITY

Federal Emergency Management Agency

[Docket ID: FEMA-2013-0012; OMB No. 1660-NEW]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 2, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Community Drill Day Registration.

OMB Control Number: 1660-NEW.

Type of information collection: New information collection.

Form Titles and Numbers: FEMA Form 008-0-8, Community Drill Day.

Abstract: FEMA's Individual and Community Preparedness Division is requesting comments on a new information collection for its registration of individuals and organizations for the Community Drill Day. The registration process allows for individuals and organizations to submit information on their participation in Community Drill Day. The registration process will provide FEMA with valuable information about the public's participation in Community Drill Day that will inform future outreach strategies related to participation in Community Drill Day.

Affected Public: Individuals or households; Farms; Business or other for-profit; Federal Government; Not-for-profit institutions; State, local or Tribal Government.

Estimated Number of Respondents: 50,000.

Estimated Total Annual Burden Hours: 15,000 hours.

Estimated Cost: The estimated annual cost to respondents for the hour burden is $326,100.00. There are no annual costs to respondents operations and maintenance costs for technical services. There is no annual start-up or capital costs. The cost to the Federal Government is $49,210.00.

Dated: June 20, 2013.
Charlene D. Myrthil,
Director, Records Management Division, Mission Support Bureau, Federal Emergency Management Agency, Department of Homeland Security.

[FR Doc. 2013-15960 Filed 7-2-13; 8:45 am]

BILLING CODE 9111-27-P